DEPARTMENT OF STATE

[Public Notice 5174]

Culturally Significant Objects Imported for Exhibition Determinations: “Assorted Egyptian Treasures for Public Exhibition”

AGENCY: Department of State.

ACTION: Notice, correction.

SUMMARY: On June 2, 2005, notice was published on page 32392 of the Federal Register (volume 70, number 105) of determinations made by the Department of State pertaining to the exhibitions “Mummy: the inside story” and “Treasures of Ancient Art from the British Museum.” The referenced notice is corrected as to additional objects to be included in the the exhibition “Mummy: the inside story.” Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, Delegation of Authority No. 236 of October 19, 1999, as amended, and Delegation of Authority No. 257 of April 15, 2003 [68 FR 19875], I hereby determine that the additional objects to be included in the exhibition “Mummy: the inside story”, imported from abroad for temporary exhibition within the United States, are of cultural significance. The additional objects are imported pursuant to loan agreements with the foreign owners. I also determine that the exhibition or display of the additional exhibit objects at the Houston Museum of Natural Science, Houston, TX, from on or about September 30, 2005, until on or about February 12, 2006 (with one object remaining for longer-term exhibit), at the Gulf Coast Exploreum, Mobile, AL, from on or about March 8, 2006, until on or about August 4, 2006, and at possible additional venues yet to be determined, is in the national interest. Public Notice of these Determinations is ordered to be published in the Federal Register.

FOR FURTHER INFORMATION CONTACT: For further information, including a list of the exhibit objects, contact Richard Lahne, Attorney-Adviser, Office of the Legal Adviser, U.S. Department of State (telephone: 202/453-8058). The address is U.S. Department of State, SA-44, 301 4th Street, SW., Room 700, Washington, DC 20547-0001.

Dated: August 19, 2005.
Travis Horel,
Deputy Assistant Secretary for Professional and Cultural Exchanges, Department of State.

[FR Doc. 05-16937 Filed 8-24-05; 8:45 am]

BILLING CODE 4710-08-P